DEPARTMENT OF ENERGY

Federal Energy Regulatory Commission

Combined Notice of Filings #1

Take notice that the Commission received the following exempt wholesale generator filings:

Docket Numbers: EG15-58-000.

Applicants: Oak Grove Management Company LLC.

Description: Self-Certification of EG of Oak Grove Management Company LLC.

Filed Date: 3/2/15.

Accession Number: 20150302-5139.

Comments Due: 5 p.m. ET 3/23/15.

Docket Numbers: EG15-59-000.

Applicants: Sandow Power Company LLC.

Description: Self-Certification of EG of Sandow Power Company LLC.

Filed Date: 3/2/15.

Accession Number: 20150302-5141.

Comments Due: 5 p.m. ET 3/23/15.

Take notice that the Commission received the following electric rate filings:

Docket Numbers: ER13-2109-003; ER13-2106-003; ER10-1410-003; ER13-321-003; ER13-412-002; ER13-450-002; ER13-434-002; ER13-518-002; ER13-1403-004; ER14-2140-003; ER14-2141-003; ER15-632-001; ER15-634-001; ER14-2466-002; ER14-2465-002;

Applicants: Fowler Ridge Wind Farm LLC, Cottonwood Solar, LLC, CID Solar, LLC, RE Camelot LLC, RE Columbia Two LLC, Selmer Farm, LLC, Mulberry Farm, LLC, Dominion Retail, Inc., Dominion Energy Manchester Street, Inc., Dominion Energy Marketing, Inc., Dominion Nuclear Connecticut, LLC, Fairless Energy, LLC, NedPower Mount Storm, LLC, Dominion Bridgeport Fuel Cell, LLC, Virginia Electric and Power Company.

Description: Supplement to January 9, 2015 Notice of Non-Material Change in Status of the Dominion Companies.

Filed Date: 2/19/15.

Accession Number: 20150219-5211.

Comments Due: 5 p.m. ET 3/12/15.

Docket Numbers: ER14-1639-003.

Applicants: ISO New England Inc.

Description: Compliance filing per 35: Compliance Filing Concerning the Renewable Technology Resource Exemption to be effective 3/2/2015.

Filed Date: 3/2/15.

Accession Number: 20150302-5275.

Comments Due: 5 p.m. ET 3/23/15.

Docket Numbers: ER15-124-002.

Applicants: Tucson Electric Power Company.

Description: Tariff Amendment per 35.17(b): Response to Deficiency Letter dated January 15, 2015 to be effective 9/17/2014.

Filed Date: 3/2/15.

Accession Number: 20150302-5180.

Comments Due: 5 p.m. ET 3/23/15.

Docket Numbers: ER15-542-001.

Applicants: Midcontinent Independent System Operator, Inc.

Description: Compliance filing per 35: 2015-03-02_Land Costs Recovery Compliance Filing to be effective 1/31/2015.

Filed Date: 3/2/15.

Accession Number: 20150302-5304.

Comments Due: 5 p.m. ET 3/23/15.

Docket Numbers: ER15-933-001.

Applicants: Midcontinent Independent System Operator, Inc.

Description: Tariff Amendment per 35.17(b): 2015-03-02_Amend Schedule 31 Annual Update to be effective 4/1/2015.

Filed Date: 3/2/15.

Accession Number: 20150302-5300.

Comments Due: 5 p.m. ET 3/23/15.

Docket Numbers: ER15-995-001.

Applicants: Verso Androscoggin LLC.

Description: Compliance filing per 35: Amendment to Filing to be effective 4/6/2015.

Filed Date: 3/2/15.

Accession Number: 20150302-5298.

Comments Due: 5 p.m. ET 3/23/15.

Docket Numbers: ER15-1141-000.

Applicants: Midcontinent Independent System Operator, Inc.

Description: Section 205(d) rate filing per 35.13(a)(2)(iii): 2015-02-27_ORCA Rate Schedule 44 to be effective 4/1/2015.

Filed Date: 2/27/15.

Accession Number: 20150227-5513.

Comments Due: 5 p.m. ET 3/20/15.

Docket Numbers: ER15-1142-000.

Applicants: PacifiCorp..

Description: Section 205(d) rate filing per 35.13(a)(2)(iii): PGE Hemlock Sub Tap Agreement to be effective 4/29/2015.

Filed Date: 2/27/15.

Accession Number: 20150227-5514.

Comments Due: 5 p.m. ET 3/20/15.

Docket Numbers: ER15-1143-000.

Applicants: Northern States Power Company, a Minnesota coporation.

Description: Section 205(d) rate filing per 35.13(a)(2)(iii): 2015-2-27 NSP-MMPA-Rev I&I_3-NSP_0.1.0 to be effective 1/1/2015.

Filed Date: 2/27/15.

Accession Number: 20150227-5524.

Comments Due: 5 p.m. ET 3/20/15.

Docket Numbers: ER15-1144-000.

Applicants: San Diego Gas & Electric Company.

Description: Section 205(d) rate filing per 35.13(a)(2)(iii): Appendix XI Gen Int. O&M Fixed Rate Charge to be effective 3/1/2015.

Filed Date: 2/27/15.

Accession Number: 20150227-5545.

Comments Due: 5 p.m. ET 3/20/15.

Docket Numbers: ER15-1145-000.

Applicants: Midcontinent Independent System Operator, Inc.

Description: Section 205(d) rate filing per 35.13(a)(2)(iii): 2015-02-27_MISO-SPP JOA M2M Filing to be effective3/1/2015.

Filed Date: 2/27/15.

Accession Number: 20150227-5549.

Comments Due: 5 p.m. ET 3/20/15.

Docket Numbers: ER15-1146-000.

Applicants: Bucksport Mill LLC.

Description: Compliance filing per 35: Bucksport Mill LLC eTariff 2015-03-02 to be effective 3/2/2015.

Filed Date: 3/2/15.

Accession Number: 20150302-5285.

Comments Due: 5 p.m. ET 3/23/15.

Docket Numbers: ER15-1147-000.

Applicants: Bucksport Generation LLC.

Description: Compliance filing per 35: Bucksport Generation LLC eTariff 2015-03-02 to be effective 3/2/2015.

Filed Date: 3/2/15.

Accession Number: 20150302-5286.

Comments Due: 5 p.m. ET 3/23/15.

Docket Numbers: ER15-1148-000.

Applicants: Milford Wind Corridor Phase I, LLC.

Description: Section 205(d) rate filing per 35.13(a)(2)(iii): Market-Based Rate Tariff Revisions to be effective 5/2/2015.

Filed Date: 3/2/15.

Accession Number: 20150302-5312.

Comments Due: 5 p.m. ET 3/23/15.

Docket Numbers: ER15-1149-000.

Applicants: Longfellow Wind, LLC.

Description: Section 205(d) rate filing per 35.13(a)(2)(iii): Market-Based Rate Tariff Revisions to be effective 5/2/2015.

Filed Date: 3/2/15.

Accession Number: 20150302-5318.

Comments Due: 5 p.m. ET 3/23/15.

Take notice that the Commission received the following electric reliability filings:

Docket Numbers: RR15-7-000.

Applicants: North American Electric Reliability Corporation.

Description: Petition of North American Electric Reliability Corporation for Approval of Amendments to the Bylaws of the Texas Reliability Entity, Inc.

Filed Date: 2/27/15.

Accession Number: 20150227-5580.

Comments Due: 5 p.m. ET 3/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2015.
Nathaniel J. Davis, Sr.,
Deputy Secretary.

[FR Doc. 2015-05249 Filed 3-5-15; 8:45 am]

BILLING CODE 6717-01-P